DEPARTMENT OF THE INTERIOR

Geological Survey

[17 GX17CJ00GKC0100]

Notice of an Open Meeting of the Advisory Committee on Water Information

AGENCY: United States Geological Survey, Department of the Interior.

ACTION: Notice of an open meeting of the Advisory Committee on Water Information (ACWI).

SUMMARY: Notice is hereby given of a meeting of the ACWI. This meeting is to discuss broad policy-related topics relating to national water initiatives, and the development and dissemination of water information, through reports from ACWI subgroups. The agenda will include updates from ACWI's various subcommittees, unveiling of the strategic plan for the Water Quality Portal for 2017-2021, a proposal for a new Terms of Reference document for the Subcommittee on Ground Water, a proposal to establish a new Risk Management Workgroup within the Subcommittee on Hydrology, an update on activities and accomplishments related to the Open Water Data Initiative, and a report on the Hydrologic Frequency Analysis Work Group's progress on Bulletin 17C, Guidelines For Determining Flood Flow Frequency.

The ACWI was established under the authority of the Office of Management and Budget Memorandum M-92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The meeting will take place from 8:30 a.m. until 5:00 p.m. on February 22, 2017, and from 8:30 a.m. until 5:00 p.m. on February 23, 2017 (times are Eastern Daylight Time).

ADDRESSES: The meeting will be held via teleconference and webinar, with the following call-in and log-in information:

When it is time to attend the meeting, please visit this link: https://usgs.webex.com/usgs/j.php?MTID=mcbd33e16e2036dbbc7d27d3a10a43174.

Audio is available via teleconference:

Call-in number: 1-855-547-8255.

Access code: 53700#.

Additional information on the teleconference and WebEx is also available on the ACWI Web site: http://acwi.gov.

FOR FURTHER INFORMATION CONTACT: Ms. Wendy E. Norton, ACWI Executive Secretary and Chief, Water Information Coordination Program, U.S. Geological Survey, 12201 Sunrise Valley Drive, MS 417, Reston, VA 20192; email wenorton@usgs.gov.

SUPPLEMENTARY INFORMATION: This meeting is open to the public. Up to a half hour will be set aside for public comment. Persons wishing to make a brief presentation (up to 5 minutes) are asked to provide a written request with a description of the general subject to Ms. Norton at the above address no later than February 17, 2017. Any member of the public may submit written information and (or) comments to Ms. Norton for distribution at the ACWI meeting.

Wendy E. Norton,
Chief, Water Information Coordination Program.

[FR Doc. 2017-02610 Filed 2-8-17; 8:45 am]

BILLING CODE 4338-11-P